OFFICE OF PERSONNEL MANAGEMENT

Privacy Act of 1974; Notice of Amended System of Records

ACTION: Notice to amend and republish system of records.

SUMMARY: Pursuant to the provisions of the Privacy Act of 1974 (5 U.S.C. 552a), the Office of Personnel Management (OPM) is giving notice that it proposes to republish an amended system of records, OPM/Central-1, due to changes in technology by Retirement Systems Modernization (RSM). This system of records is an integrated application that works from one central database that allows OPM designated employees and contractors to access the records on a need to know basis in accordance with OPM and Federal rules, regulations and safeguard procedures for personally identifiable information. RSM will enhance the system's functionality to enable Federal employees and retirees to access personal and benefits-related information. This notice proposes to amend and republish an existing internal system of records.

DATE: The changes will be effective April 21, 2008, without further notice unless comments are received that would result in a contrary determination.

ADDRESSES: Send written comments to Office of Personnel Management, ATTN: Marc Flaster, Chief, Support Group, Center for Retirement and Insurance Services, 1900 E Street, NW., Room 3313, Washington, DC 20415-7900.

FOR FURTHER INFORMATION CONTACT: Sharon Glick (412) 657-5013.

SUPPLEMENTARY INFORMATION: Notice to amend and republish system of records.

SUMMARY: Pursuant to the provisions of the Privacy Act of 1974 (5 U.S.C. 552a), the Office of Personnel Management (OPM) is giving notice that it proposes to republish an amended system of records, OPM/Central-1, due to changes in technology by Retirement Systems Modernization (RSM). RSM is a strategic initiative of OPM to improve quality and timeliness of services to individuals covered by the Civil Service Retirement System (CSRS) and the Federal Employees' Retirement System (FERS), the Federal Employees' Group Life Insurance Program (FEGLI), and the Federal Employees Health Benefits Program (FEHBP) by modernizing business practices and technology that support the programs. The RSM program will transform the retirement process, and health and life insurance elections, by devising more efficient and effective business systems to respond to increased customer demand for higher levels of customer service and online self-service tools. This system of records reflects the republishing of the SORN from October 1999, as amended May 2000, inclusion of the prefatory uses as published in 1996 and the addition of two new routine uses.

U.S. Office of Personnel Management.
Linda M. Springer,
Director.

System name:

Civil Service Retirement and Insurance Records.

System location:

Deputy Associate Director, Center for Retirement and Insurance Services, Office of Personnel Management (OPM), 1900 E Street, NW., Washington, DC 20415-0001. Certain records pertaining to State income tax withholdings from annuitant payments are located with State Taxing Offices. Certain information concerning enrollment/change in enrollment in a health plan under the Federal Employees Health Benefits Program (FEHBP) may be located at other agencies. Certain records pertaining to overpayments must be forwarded to the Department of the Treasury for collection activity. Certain records pertaining to enrollment in a Preauthorized Debit Program (PAD) for sending recurring remittances to OPM for service credit and voluntary contributions accounts are maintained with a lockbox bank, which operates the PAD program for OPM.

Categories of individuals covered by the system:

a. Former Federal employees and members of Congress who performed service subject to the Civil Service Retirement System (CSRS) or Federal Employees' Retirement System (FERS).

b. Current Federal employees who have:

1. Performed Federal service subject to the CSRS or FERS other than with their present agency; or

2. Had data converted to the OPM Retirement Systems Modernization Program; or

3. Filed a designation of beneficiary for benefits payable under the CSRS; or

4. Requested OPM to review a claim for health benefits made under the FEHBP; or

5. Enrolled/changed enrollment in a plan under the FEHBP; or

6. Filed a service credit application in connection with former Federal service; or

7. Filed an application for disability retirement with OPM and are awaiting final decision, or whose disability retirement application has been disapproved by OPM.

c. Former Federal employees who died subject to or who retired under the CSRS or FERS, or their surviving spouses, and/or children who have received or are receiving CSRS or FERS benefits and/or benefits under the Federal Employees' Group Life Insurance (FEGLI) Program, or Federal Employees Health Benefits Program (FEHBP).

d. Former Federal employees who died subject to or who retired under a Federal Government retirement system other than CSRS or FERS, or their surviving spouses and/or children, who have received or are receiving benefits from FEGLI and/or FEHBP.

e. Applicants for Federal employment found unsuitable for employment on medical grounds.

f. Former spouses of Federal employees who have received or are receiving CSRS or FERS benefits, or who have filed a court order awarding future benefits.

Categories of records in the system:

This system comprises those retirement service history records of employee's service in the Federal Government from their current employing agency if the employee has been converted to the Retirement Systems Modernization Program and/or an agency other than for the agency in which they may presently be employed. Also included in the system are current personnel data pertaining to active United States Postal Service employees who, by virtue of the provisions set forth in 5 U.S.C. 2105(e), are not considered civil service employees. It also contains information concerning health benefit enrollment/change in enrollment, and information developed in support of claims for benefits made under the retirement, health benefits, and life insurance programs for Federal employees that OPM administers. Also included are medical records and supporting evidence on those individuals whose application for disability retirement has been rejected. Consent forms and other records related to the withholding of State income tax from annuitant payments, whether physically maintained by the State or OPM, are included in this system. Consent forms and other records related to enrollment in the Preauthorized Debit Program, whether physically maintained by the authorized lockbox bank or OPM, are included in the system.

These records contain the following information:

a. Documentation of Federal service subject to the CSRS or FERS.

b. Documentation of service credit and refund claims made under the CSRS or FERS.

c. Documentation of voluntary contributions made by eligible individuals.

d. Retirement and death claims files, including documents supporting the retirement application, health benefits, and life insurance eligibility, medical records supporting disability claims (after receipt by OPM), and designations of beneficiary.

e. Claim review files pertaining to requests made under the FEHBP reviewed by OPM.

f. Enrollment and change in enrollment information under the FEHBP.

g. Documentation of continuing coverage for life insurance and health benefits for annuitants and their survivors under a Federal Government retirement system other than the CSRS or FERS, or for compensationers and their survivors under the Office of Workers' Compensation programs.

h. The system also maintains a file of court orders submitted by former spouses of Federal employees. These court orders are submitted to support claims to apportion funds/benefits due to a Federal employee at some point in the future.

i. Records relating to overpayments made to annuitants, survivor annuitants, spouses and/or dependents. These records may be retained in OPM or provided to the Department of the Treasury, pursuant to the Debt Collection Act of 1996. There are two different systems applicable to overpayments. The OPM financial management system uses the Social Security Number (SSN) as part of the identifying information in the record. The Debt Collection Act of 1996 requires agencies to turn over all receivables more than 180 days past due to the Department of the Treasury for all further collection activity. The SSN is one of the required fields for transferring the record to the Department of the Treasury. OPM may obtain the SSN from case files or requests made to credit bureaus.

Authority for maintenance of the system:

Includes the following with any revisions or amendments:

Section 3301 and chapters 83, 84, 87, 89 of title 5, United States Code, Pub. L. 83-598, 84-356, 86-724, and 94-455; and Executive Order 9397.

Purpose(s):

These records provide information and verification on which to base entitlement and computation of CSRS and FERS benefits, CSRS and FERS and survivors' benefits, FEHBP and enrollments, and FEGLI benefits, and to withhold State income taxes from annuitant payments. These records may also be used to compute CSRS and FERS benefit estimates. These records also serve to review rejection of applicants for Federal employment on medical suitability grounds. These records also may be used to locate individuals for personnel research. These records also provide information and verification concerning enrollment/change in enrollment in a plan under the FEHBP

Routine uses of records maintained in the system, including categories of users and the purposes of such uses:

a. For Law Enforcement Purposes—To disclose pertinent information to the appropriate Federal, State, or local agency responsible for investigating, prosecuting, enforcing, or implementing a statute, rule, regulation, or order, where OPM becomes aware of an indication of a violation or potential violation of civil or criminal law or regulation.

b. For Certain Disclosures to Other Federal Agencies—To disclose information to a Federal agency, in response to its request in connection with the hiring or retention of an employee, the issuance of a security clearance, the conducting of a suitability or security investigation of an individual, the classifying of jobs, the letting of a contract, or the issuance of a license, grant, or other benefit by the requesting agency, to the extent that the information is relevant and necessary to the requesting agency's decision on the matter.

c. For Congressional Inquiry—To provide information to a congressional office from the record of an individual in response to an inquiry from that congressional office made at the request of that individual.

d. For Judicial/Administrative Proceedings—To disclose information to another Federal agency, to a court, or a party in litigation before a court or in an administrative proceeding being conducted by a Federal agency, when the Government is a party to the judicial or administrative proceeding. In those cases where the Government is not a party to the proceeding, records may be disclosed if a subpoena has been signed by a judge.

e. For National Archives and Records Administration—To disclose information to the National Archives and Records Administration for use in records management inspections.

f. Within OPM for Statistical/Analytical Studies—By OPM in the production of summary descriptive statistics and analytical studies in support of the function for which the records are collected and maintained, or for related workforce studies. While published studies do not contain individual identifiers, in some instances the selection of elements of data included in the study may be structured in such a way as to make the data individually identifiable by inference.

g. For Litigation—To disclose information to the Department of Justice, or in a proceeding before a court, adjudicative body, or other administrative body before which OPM is authorized to appear, when:

(1) OPM, or any component thereof; or

(2) Any employee of OPM in his or her official capacity; or

(3) Any employee of OPM in his or her individual capacity where the Department of Justice or OPM has agreed to represent the employee; or

(4) The United States, when OPM determines that litigation is likely to affect OPM or any of its components; is a party to litigation or has an interest in such litigation, and the use of such records by the Department of Justice or OPM is deemed by OPM to be relevant and necessary to the litigation provided, however, that the disclosure is compatible with the purpose for which records were collected.

h. For the Merit Systems Protection Board—To disclose information to officials of the Merit Systems Protection Board or the Office of the Special Counsel, when requested in connection with appeals, special studies of the civil service and other merit systems, review of OPM rules and regulations, investigations of alleged or possible prohibited personnel practices, and such other functions, e.g., as promulgated in 5 U.S.C. 1205 and 1206, or as may be authorized by law.

i. For the Equal Employment Opportunity Commission (EEOC)—To disclose information to the EEOC when requested in connection with investigations into alleged or possible discrimination practices in the Federal sector, compliance by Federal agencies with the Uniform Guidelines on Employee Selection Procedures or other functions vested in the Commission and to otherwise ensure compliance with the provisions of 5 U.S.C. 7201.

j. For the Federal Labor Relations Authority (FLRA)—To disclose information to the FLRA or its General Counsel when requested in connection with investigations of allegations of unfair labor practices or matters before the Federal Service Impasses Panel.

k. For Non-Federal Personnel—To disclose information to private organizations, contractors, grantees, volunteers, or other non-Federal personnel performing or working on a project, contract, service, grant, cooperative agreement, or job for, to the benefit of, or consistent with the interests of the Federal Government when OPM has determined that the use of that information is compatible with proper disclosure and will benefit Federal employees, annuitants or their dependents, survivors, and beneficiaries. To disclose information to contractors, grantees, or volunteers performing or working on a contract, service, grant, cooperative agreement, or job for the Federal Government.

l. To disclose, to the following recipients, information needed to adjudicate a claim for benefits under OPM's or the recipient's benefits program(s), or information needed to conduct an analytical study of benefits being paid under such programs: Office of Workers' Compensation Programs; Department of Veterans Affairs Pension Benefit Program; Social Security Administration's Old Age, Survivor and Disability Insurance and Medical Programs and Supplemental Security Income Program; Center for Medicare and Medicaid Services; Department of Defense; Railroad Retirement Board; military retired pay programs; Federal civilian employee retirement programs (other than the CSRS or FERS); or other national, State, county, municipal, or other publicly recognized charitable or social security administrative agencies;

m. To disclose to the Office of Federal Employees Group Life Insurance (OFEGLI) information necessary to verify the election, declination, or waiver of regular and/or optional life insurance coverage or eligibility for payment of a claim for life insurance.

n. To disclose to health insurance carriers contracting with OPM to provide a health benefits plan under the FEHB, SSN, and other information necessary to identify enrollment in a plan, to verify eligibility for payment of a claim for health benefits, or to carry out the coordination for benefits provisions of such contracts.

o. To disclose to any inquirer, if sufficient information is provided to assure positive identification of an individual on whom a department or agency maintains retirement or insurance records, the fact that an individual is or is not on the retirement rolls, and if so, the type of annuity (employment or survivor, but not retirement on disability) being paid, or if not, whether a refund has been paid.

p. When an individual to whom a record pertains dies, to disclose to any person possibly entitled in the order of precedence for lump-sum benefits, information in the individual's record that might properly be disclosed to the individual, and the name and relationship of any other person whose claim for benefits takes precedence or who is entitled to share the benefits payable. When a representative of the estate has not been appointed, the individual's next of kin may be recognized as the representative of the estate.

q. To disclose to the Internal Revenue Service, Department of the Treasury, information as required by the Internal Revenue Code of 1954, as amended.

r. To disclose to the Department of Treasury information necessary to issue benefit checks or savings bonds.

s. To disclose information to any person who is responsible for the care of the individual to whom a record pertains, and who is found by a court or OPM Contract Doctors to be incompetent or under other legal disability, information necessary to assure payment of benefits to which the individual is entitled.

t. To disclose to the Parent Locator Service of the Department of Health and Human Services, upon its request, the present address of an annuitant, or former employee, for enforcing child support obligations against such individual.

u. In connection with an examination ordered by the agency under:

(1) Medical examination procedures; or

(2) Agency-filed disability retirement procedures.

To disclose to the agency-appointed representative of an employee all notices, decisions, other written communications, or any pertinent medical evidence other than medical evidence that a prudent physician would hesitate to inform the individual of; such medical evidence will be disclosed only to a licensed physician, designated in writing for that purpose by the individual or his or her representative.

v. To disclose information to any source from which additional information is requested relevant to OPM determination on an individual's eligibility for or entitlement to coverage under the retirement, life insurance, and health benefits program, to the extent necessary to identify the individual and the type of information requested.

w. To disclose information to the Office of Management and Budget (OMB) at any stage of the legislative coordination and clearance process in connection with private relief legislation as set forth in OMB circular No. A-19.

x. To provide an official of another Federal agency information needed in the performance of official duties related to reconciling or reconstructing data files; compiling descriptive statistics; and making analytical studies to support the function for which the records were collected and maintained.

y. To disclose to a Federal agency, in response to its request, the address of any annuitant or applicant for refund of retirement deductions, if the agency requires that information to provide consideration in connection with the collection of a debt due the United States.

z. To disclose to an allottee, as defined in 5 CFR 831.1501, the name, address, and the amount withheld from an annuitant's benefits, pursuant to 5 CFR 831.1501 et seq. as an allotment to that allottee to implement the program of voluntary allotments authorized by 5 U.S.C. 8345(h) or 8465.

aa. To disclose to a State agency responsible for the collection of State income taxes the information required by an Agreement to Implement State Income Tax Withholdings from Civil Service Annuities entered pursuant to section 1705 of Pub. L. 97-35 or 5 U.S.C. 8469 to implement the program of voluntary State income tax withholding required by 5 U.S.C. 8345(k) or 8469.

bb. To disclose to the Social Security Administration the SSN of civil service annuitants to determine:

(1) Their vital status as shown in the Social Security Master Records;

(2) Whether recipients of the minimum annuity are receiving at least the Special Primary Insurance Amount benefit from the Social Security Administration; and

(3) Whether civil service retirees with post-1956 military service credit are receiving benefits from the Social Security Administration.

cc. To disclose information contained in the Retirement Annuity Master File; including the name, SSN, date of birth, sex, OPM's claim number, health benefit enrollment code, retirement date, retirement code (type of retirement), annuity rate, pay status of case, correspondence address, and ZIP code, of all Federal retirees and their survivors to Federal agencies and requesting States to help eliminate fraud and abuse in the benefit programs administered by the Federal agencies and States (and those States to local governments) and to collect debts and overpayments owed to the Federal Government, and to State Governments and their components.

dd. To disclose to a Federal agency, a person or an organization contracting with a Federal agency for rendering collection services within the purview of section 13 of the Debt Collection Act of 1982, in response to a written request from the head of the agency or his other designee, or from the debt collection contractor, the following data concerning an individual owing a debt to the Federal Government:

(1) The debtor's name, address, SSN, and other information necessary to establish the identity of the individual;

(2) the amount, status, and history of the claim; and

(3) the agency or program under which the claim arose.

ee. To disclose information contained in the Retirement Annuity Master File, upon written request, to State tax administration agencies, for the express purpose of ensuring compliance with State tax obligations by persons receiving benefits under the CSRS or the FERS and to prevent fraud and abuse, but only the following data elements: Name, correspondence address, date of birth, sex, SSN, annuity rate, commencing date of benefits, and retirement code (type of retirement).

ff. To disclose information to a State court or administrative agency in connection with a garnishment, attachment, or similar proceeding to enforce an alimony or child support obligation.

gg. To disclose to a former spouse when necessary to explain how that former spouse's benefit under 5 U.S.C. 8341(h), 8345(j), 8445, or 8467 was computed.

hh. To disclose to a Federal or State agency (or its agent) when necessary to locate individuals who are owed money or property either by a Federal agency, State or local agency, or by a financial institution or similar institution.

ii. To disclose to a health plan participating in the FEHBP and to an FEHBP enrollee or covered family member or an enrollee or covered family member's authorized representative, in connection with the review of a disputed claim for health benefits, from information maintained within this system of records, the decision of OPM regarding the disputed claim review.

jj. To disclose to a State or local government, or private individual or association engaged in volunteer work, identifying and address information and other pertinent facts, for the purpose of developing an application as representative payee for an annuitant or survivor annuitant who is mentally incompetent or under other legal disability.

kk. To disclose on request to a spouse or dependent child (or court-appointed guardian thereof) of a CSRS or FERS annuitant or an annuitant of any other Federal retirement system enrolled in the FEHBP whether the annuitant has changed from a self-and-family to a self-only health benefits enrollment.

ll. To the Defense Manpower Data Center, Department of Defense, and the U.S. Postal Service to conduct computer matching programs for the purpose of identifying and locating individuals who are receiving Federal salaries or benefit payments and are past due in their repayment of debts owed to the U.S. Government under certain programs administered by the OPM in order to collect the debts under the provisions of the Debt Collection Act of 1982 (Pub. L. 97-365) by voluntary repayment, or by administrative or salary offset procedures.

mm. To any other Federal agency for the purpose of effecting administrative or salary offset procedures against a person employed by that agency or receiving or eligible to receive some benefit payments from the agency when OPM as a creditor has a claim against that person.

nn. To disclose information concerning past due receivables to the U.S. Department of the Treasury, Financial Management Service, and to any other debt collection center designated by the Secretary of the Treasury, or any debt collection contractor for the purpose of collecting the receivable by cross servicing in accordance with 31 U.S.C. 3711(M).

oo. To disclose information concerning past due receivables to the Department of Justice for the purpose of litigating to enforce collection of a past due account or to obtain the Department of Justice's concurrence in a decision to compromise, suspend, or terminate collection action on an overpayment with the principal amount in excess of $100,000 or such higher amount as the Attorney General may, from time to time, prescribe in accordance with 31 U.S.C. 3711(a).

pp. To disclose information concerning past due receivables to the U.S. Department of the Treasury, Financial Management Service, or to any other debt collection center designated by the Secretary of the Treasury, or any other Federal agency for the purpose of collecting the receivable through offset under 31 U.S.C. 3716 (administrative offset), 31 U.S.C. 3720A (Tax refund offset), 5 U.S.C. 5514 (Salary offset), or offset under any other statutory or common law authority.

qq. To disclose information concerning overpayees in arrears to other Federal agencies for the purpose of implementing 31 U.S.C. 3720B, which prohibits persons who are past due on Federal debts from obtaining Federal financial assistance in the form of loans or loan insurance or guaranties.

rr. To disclose information concerning past due receivables to any employer of the debtor for the purpose of conducting administrative wage garnishment pursuant to 31 U.S.C. 3720D.

ss. To disclose information or publicly disseminate information concerning overpayees in arrears and the debt to the public for the purpose of publicly disseminating information regarding the identity of the debtor pursuant to 31 U.S.C. 3720B.

tt. To disclose information concerning past due receivables to State and local governments in an effort to collect monies owed the Federal government.

uu. To disclose information concerning past due receivables to the Internal Revenue Service for the purpose of: Effecting an administrative offset against the individual's income tax refund to recover monies owed the Federal government by the individual, or obtaining the mailing address of a taxpayer in order to locate the individual to collect or compromise a Federal receivable against the taxpayer in accordance with 31 U.S.C. 3711, 3717, 3728, and 3718 and 26 U.S.C. 6103(m)(2) and 6402.

vv. To disclose information concerning past due receivables to any person or for any debt collection purpose authorized by statue not specifically enumerated here.

ww. To provide an official of another Federal agency information needed in the performance of official duties related to retirement, federal employee health, and/or federal employee life insurance benefits counseling.

xx. To authorized agencies, entities, and persons when:

(1) OPM suspects or has confirmed that the security or confidentiality of information in the system of records has been compromised;

(2) OPM has determined that as a result of the suspected or confirmed compromise there is a risk of harm to economic or property interests, identity theft or fraud, or harm to the security or integrity of this system or other systems or programs (whether maintained by OPM or another agency or entity) that rely upon the compromised information; and

(3) the disclosure made to such agencies, entities, and persons is reasonably necessary to assist in connection with OPM's efforts to respond to the suspected or confirmed compromise and prevent, minimize, or remedy such harm.

Disclosures to consumer reporting agencies:

Disclosures pursuant to 5 U.S.C. 552a(b)(12): Disclosures may be made from this system to consumer reporting agencies as defined in the Fair Credit Reporting Act (15 U.S.C. 1681a(f)) or the Federal Claims Collection Act of 1966 (31 U.S.C. 3701(a)(3)) Policies and practices for storing, retrieving, retaining and disposing of records in the system:

Storage:

These records are maintained on secured LAN drives, databases, mainframes, magnetic tapes, disks, microfiche, and in folders.

Retrievability:

These records are retrieved by the name, SSN, date of birth and/or claim number of the individual to whom they pertain.

Safeguards:

Records are kept in lockable metal file cabinets or in a secured facility with access limited to those whose official duties require access. Systems storing electronic data undergo system certification & accreditation processes and follow other appropriate federal security standards. Transfer of data to and from this system of record occurs over secure connections using encryption when appropriate. Personnel screening is employed to prevent unauthorized disclosure.

Retention and disposal:

All records on a claim for retirement, life insurance, health benefits, and tax withholdings are maintained permanently in paper and/or electronic imaged format. Medical suitability records are maintained for 18 months. Requests for review of health benefits claims are maintained up to 3 years. Disposal of manual records is by shredding or burning; magnetic tapes and discs are erased.

System manager(s) and address:

Deputy Associate Director, Center for Retirement and Insurance Services, Office of Personnel Management, 1900 E Street, NW., Washington, DC 20415-0001.

Records Access Procedures:

Individuals wishing to access their own records online through Your Benefits Resource (YBR) must follow a two-step identification and authorization process. Individuals must provide personal identifiers and/or a system user id for identification followed by a system password and/or personal indicative data for authentication.

OPM and Other Agency Access Procedures:

Designated OPM, agency, and shared service center employees may be granted a defined level of access to other participants' records in this system for the purpose of performing official duties related to retirement, federal employee health, and/or federal employee life insurance benefits counseling. Those granted access to other participants' records must furnish their user identifying information and authentication information to obtain access.

Individual Access Procedures:

Individuals wishing to request access to their records in this system should contact the system manager. Individuals must furnish the following information for their records to be located and identified:

a. Name, including all former names.

b. Date of birth.

c. SSN.

d. Name and address of office in which currently and/or formerly employed in the Federal service.

e. Annuity, service credit, or voluntary contributions account number, if assigned.

Individuals requesting access must also follow OPM's Privacy Act regulations on verification of identity and access to records (5 CFR part 297).

Contesting record procedure:

Individuals wishing to request amendment of their records in this system that are originated by OPM should contact the system manager.

Individuals must furnish the following information for their records to be located and identified:

a. Name, including all former names.

b. Date of birth.

c. SSN.

d. Name and address of office in which currently and/or formerly employed in the Federal service.

e. Annuity, service credit, or voluntary contributions account number, if assigned.

Individuals requesting amendment of their records must also follow OPM's Privacy Act regulations regarding verification of identity and amendment of records (5 CFR part 297).

Individuals requesting amendment of records that were not originated by OPM must contact the agency that established the record in accordance with (5 CFR 831.102 and 841.106).

Record source categories:

The information in this system is obtained from:

a. The individual to whom the information pertains.

b. Agency pay, leave, and allowance records.

c. National Personnel Records Center.

d. Federal civilian retirement systems other than the CSRS/FERS.

e. Military retired pay system records.

f. Office of Workers' Compensation Benefits Program.

g. Veteran's Administration Pension Benefits Program.

h. Social Security Old Age, Survivor, and Disability Insurance and Medicare Programs.

i. Health insurance carriers and plans participating in the FEHBP.

j. OFEGLI.

k. Official Personnel Folders.

l. The individual's co-workers and supervisors.

m. Physicians who have examined or treated the individual.

n. Former spouse of the individual.

o. State courts or support enforcement agencies.

p. Credit bureaus.

[FR Doc. E8-5659 Filed 3-19-08; 8:45 am]

BILLING CODE 6325-38-P